DEPARTMENT OF DEFENSE

Office of the Secretary

[Docket ID: DoD-2014-OS-0084]

Submission for OMB Review; Comment Request

ACTION: Notice.

SUMMARY: The Department of Defense has submitted to OMB for clearance, the following proposal for collection of information under the provisions of the Paperwork Reduction Act.

DATES: Consideration will be given to all comments received by February 12, 2015.

FOR FURTHER INFORMATION CONTACT: Fred Licari, 571-372-0493.

SUPPLEMENTARY INFORMATION: Title, Associated Form and OMB Number: Joint Services Support (JSS) System; OMB Control Number 0704-XXXX.

Type of Request: New Collection.

Number of Respondents: 12,000.

Responses per Respondent: 1.

Annual Responses: 12,000.

Average Burden per Response: 10 minutes.

Annual Burden Hours: 2,000.

Needs and Uses: The information collection requirement is necessary for the National Guard Bureau and its participating programs (Yellow Ribbon Reintegration Program (Guard and Reserve Component-wide), Family Program, Employer Support Program, financial Management Awareness Program, Sexual Assault Prevention and Response Program, Psychological Health Program, and Warrior Support Program) to ensure key activities may be associated with system-registrants for program management, accountability, reporting and support purposes. Examples of use of such information include: Validating event registration and attendance, enabling users to login to system to facilitate outreach and communication activities, enabling leadership across the participating programs, with oversight and reporting.

In addition, JSS plans on collecting Civilian Employer Information (CE) from Service members. Defense Manpower Data Center (DMDC) will be ceasing its CEI Web site as of October 1, 2012. The service components as a result have been tasked to take over the collection of CEI prior to this date.

JSS in particular helps the Yellow Ribbon Reintegration Program and (in the future) also help Employer Support for the Guard and Reserve, reporting program activities, as required by a congressional mandate.

Affected Public: Individuals or Households; Federal Government; State, Locale or Tribal Government.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: January 8, 2015.
Aaron Siegel,
Alternate OSD Federal Register Liaison Officer, Department of Defense.

[FR Doc. 2015-00308 Filed 1-12-15; 8:45 am]

BILLING CODE 5001-06-P